PEACE CORPS

Information Collection Request Under OMB Review

AGENCY: Peace Corps.

ACTION: Notice of public use form review request of the Office of Management and Budget (OMB)—OMB Control #0420-0513.

SUMMARY: The Associate Director for Management invites comments on Reinstatement, with change, of a previously approved collection for which approval has expired to OMB Control # 0420-0513, an information collection request as required pursuant to the Paperwork Reduction Act of 1981 (44 U.S.C., Chapter 35). This notice announces that Peace Corps has submitted to the Office of Management and Budget a request to approve Reinstatement, with change, of a previously approved collection for which approval has expired for PC Form-2042 (rev. 07/2006), Correspondence Match Enrollment Form. Peace Corps invites comments on whether the proposed collection of information is necessary for proper performance of the functions of the Peace Corps and the Paul D. Coverdell World Wise Schools' Correspondence Match program, including whether the information will have practical use; the accuracy of the agency's estimate of the burden of the proposed collection of information, including the validity of the information to be collected; and, ways to minimize the burden of the collection of information on those who are to respond, including through the use of automated collection techniques, when appropriate, and other forms of information technology.

DATES: Comments must be submitted on or before December 4, 2006.

ADDRESSES: Comments should be mailed to Peace Corps, Office of Domestic Programs, Sally Caldwell, Director of World Wise Schools, 1111 20th Street, NW., Washington, DC 20526. Ms. Caldwell can be contacted by telephone at (202) 692-1425 or 800-424-8580, ext. 1425 or e-mail at scaldwell@peacecorps.gov. E-mail comments must be made in text and not in attachments.

Information Collection Abstract

OMB Control Number: 0420-0513.

Title: Correspondence Match Enrollment Form.

Need for and Use of the Information: The Peace Corps and Paul D. Coverdell World Wise Schools need this information to officially enroll educators in the Correspondence Match program. The information collected is used to make suitable matches between the educators and currently serving Peace Corps Volunteers.

Type of Review: Emergency—Reinstatement, with change, of a previously approved collection for which approval has expired.

Respondents: Educators interested in promoting global education in the classroom.

Respondents Obligation to Reply: Voluntary.

Burden on the Public:

a. Annual reporting burden: 1667 hours.

b. Annual record keeping burden: 250 hours.

c. Estimated average burden per response: 10 minutes.

d. Frequency of response: Annually.

e. Estimated number of likely respondents: 10,000.

f. Estimated cost to respondents/Agency: 0/$8,900.

This notice is issued in Washington, DC on September 28, 2006.
Wilbert Bryant,
Associate Director for Management.

[FR Doc. 06-8459 Filed 10-2-06; 8:45 am]

BILLING CODE 6051-01-M